DEPARTMENT OF COMMERCE

International Trade Administration

International Trade Administration Mission Statement

AGENCY: Department of Commerce, ITA.

ACTION: Notice.

Mission Statement

U.S. Health Care Trade Policy Mission to China, April 24-25, 2008.

Mission Description: The United States Department of Commerce, International Trade Administration (ITA) is organizing a Health-Care Trade Mission to China, April 23-25, 2008. The trade mission will focus on market access and target a broad range of health-care industries, such as the pharmaceutical, medical device, health insurance and health services industries, and will be led by Under Secretary of Commerce Christopher A. Padilla. ITA seeks to provide participating U.S. companies an opportunity to meet with key officials in China's health ministries to discuss the direction and structure of China's upcoming health-care reforms. The mission will likely take the form of 3-4 meetings between the delegation and China's Ministry of Health, Ministry of Human Resources and Social Security (formerly Ministry of Labor and Social Security), National Development and Reform Commission and possibly the Ministry of Finance or State Food and Drug Administration (subject to availability). In addition to these meetings, the agenda will include a preparatory meeting between the delegation and the Under Secretary.

Commercial Setting: This Trade Mission will take place following China's planned announcement in late March outlining significant changes to its financing, regulation, and management of its health-care system. The U.S. pharmaceutical, medical device, health insurance and health services industries currently have many market access concerns with China, but the potential impact of the pending health-care reforms are the leading concern of many U.S. companies. The reforms China will undertake have the potential to significantly alter the market for U.S. health goods and services. Industry's ability to engage with the Government of China on these reforms has been limited so far, and while it is understood that an outline of the reforms will be announced in March, industry still lack details and a forum to engage with key Chinese policy makers. This trade mission will provide that opportunity.

This mission builds on previous DOC engagement with China's health ministries under the auspices of the U.S.-China Health-Care Forum (HCF). The mission will supplement HCF cooperation between DOC and the U.S. Department of Health and Human Services and China's Ministry of Health and Ministry of Commerce.

Overview of China's Health Reform Situation: China has made improving health-care access to its citizens a priority in its Eleventh Five-Year Plan (2006-2010). China will announce reforms to improve the services provided by China's health-care system, increase the number of insured citizens, reduce corruption and perverse profit incentives, and reduce the overall costs to the consumer. While details are not yet available, Chinese press and U.S. industry anticipate that reforms will lay out a plan for universal health coverage, will institute new health-care delivery systems, will reform hospital management and will change the way drugs are regulated. We expect the outline of the plan to be announced at the meeting of the National People's Congress in March. The overall proposal is expected to focus only on principles and general direction, be supported by eight more detailed supplemental reform proposals and be implemented through a series of pilot programs.

All of these pending reforms present a serious change in the market for U.S. health goods and services providers. U.S. health-care goods and services providers with a clear understanding of China's policy environment have the potential to influence the policy direction and take advantage of what may be a dramatically growing Chinese health-care market.

Mission Goals: The trade mission will facilitate dialogue between the U.S. health-care industry and Chinese policymakers to assist mission participants in gaining first-hand information about China's upcoming health-care reforms and provide a forum for U.S. stakeholders to provide feedback to relevant Chinese Government ministries to encourage policy choices that increase market access for U.S. goods and services. The trade mission also will assist ITA in identifying areas of interest to China for future cooperation on these market access issues.

Summary of Results Expected From the Mission

• Improve U.S. health-care industries' understanding of the pending health-care reforms in China.

• Discover areas of interest to China where future cooperation with U.S. Government and industry could further improve market access for U.S. goods and services.

• Provide Chinese policymakers with U.S. industry feedback on the direction of the reforms.

• Introduce U.S. industry to China's new leadership.

Mission Scenario: In China, the International Trade Administration will:

• Organize a preparatory meeting between the delegation, the Under Secretary, and key U.S. Embassy officials.

• Schedule 3-4 meetings with key Government of China ministries. (Subject to the availability of officials in the relevant ministries.)

Proposed Mission Timetable

Wednesday, April 23

Trade Mission Delegation Dinner with the Under Secretary.

Thursday, April 24-Friday, April 25

Meeting with the Vice Minister of the Ministry of Health.

Meeting with the Vice Minister of the Ministry of Human Resources and Social Security.

Meeting with the Vice Minister of the National Development and Reform Commission.

Meeting with the Vice Minister of the Ministry of Finance (Time permitting).

Criteria for Participation

• Relevance of the company's business line to the mission scope and goals;

• Potential for business in the selected markets;

• Timeliness of the company's completed application, participation agreement, and payment of the mission participation fee;

• Certification that the company's products and/or services are manufactured or produced in the United States or, if manufactured/produced outside of the United States, the products/services must be marketed under the name of a U.S. firm and have U.S. content representing at least 51 percent of the value of the finished goods or services;

• Diversity of health-care sectors represented; and

• Rank/seniority of the designated company representative.

Any partisan political activities of an applicant, including political contributions, will be entirely irrelevant to the selection process.

The mission will be promoted through the following venues: ITA's Export Assistance Centers, the Health and Consumer Goods team, the Service Industries team, the Asia Pacific Team, the Trade Events List http://www.export.gov; the Federal Register; relevant trade associations; past Commerce health-care policy event participants; and the Commerce Department trade missions calendar: http://www.ita.doc.gov/doctm/tmcal.html.

Recruitment will begin immediately and will close on April 1, 2007. The trade mission participation fee will be U.S. $1,250 per company. Each participating organization will be allowed to send only one representative. The participation fee does not include the cost of travel, lodging, some ground transportation, or some meals. Participation is open to 15 qualified U.S. companies. Invited companies must submit the trade mission participation fee and completed participation agreement within one week of receipt of their invitation in order to secure their place in the mission. After that time, other companies may be invited to fill that spot. Applications received after the closing date will be considered only if space and scheduling constraints permit.

FOR FURTHER INFORMATION CONTACT: Anthony Cino, U.S. Department of Commerce, e-mail: anthony_cino@ita.doc.gov, telephone: 202-482-5679, facsimile: 202-482-2266.

Anthony Cino,
Office of the Chinese Economic Area, International Trade Administration, U.S. Department of Commerce.

[FR Doc. E8-5935 Filed 3-24-08; 8:45 am]

BILLING CODE 3510-25-P